NUCLEAR REGULATORY COMMISSION

[Docket No. 70-143]

Nuclear Fuel Services, Inc.

AGENCY: Nuclear Regulatory Commission.

ACTION: Notice of issuance; correction.

SUMMARY: This notice corrects a previous notice appearing in the Federal Register on October 30, 2002 (67 FR 66172), that considers issuance of an amendment of Materials License SNM-124. This notice is necessary to correct an erroneous Agencywide Documents Access and Management System (ADAMS) accession number, and to add the address of the attorney for the licensee.

FOR FURTHER INFORMATION CONTACT: Mary Adams, Office of Nuclear Material Safety and Safeguards, Nuclear Regulatory Commission, Washington, DC 20555-0001, telephone: 301-415-7249, e-mail: mta@nrc.gov.

SUPPLEMENTARY INFORMATION: On page 66172, in the third column, in the second complete paragraph, the ADAMS accession number is changed from “ML02730343,” to read “ML020730343”. Also, on page 66173, second column, fifth paragraph should be changed from “(1) The applicant, Nuclear Fuel Services, 1205 Banner Hill Road, Erwin, Tennessee, 37650-9718. A copy of the request for hearing should also be sent to the attorney for the licensee;” to “(1) The applicant, Nuclear Fuel Services, 1205 Banner Hill Road, Erwin, Tennessee, 37650-9718. A copy of the request for hearing should also be sent to the attorney for the licensee, Daryl Shapiro, c/o Shaw Pittman, L.L.P., 2300 N. Street, NW., Washington, DC 20037;”.

Dated in Rockville, Maryland, this 5th day of November, 2002.
For the U.S. Nuclear Regulatory Commission.
Daniel Gillen, Chief,
Fuel Cycle Facilities Branch, Division of Fuel Cycle Safety and Safeguards, Office of Nuclear Materials Safety and Safeguards.

[FR Doc. 02-28670 Filed 11-8-02; 8:45 am]

BILLING CODE 7590-01-P